ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Tuesday and Wednesday, May 14-15, 2002, at the times and location noted below.

DATES: The schedule of events is as follows:

Tuesday, May 14, 2002

9-11 a.m.—Informal Meeting

11-Noon—Planning and Budget Committee

1:30-5 p.m.—Ad Hoc Committee on Passenger Vessels (Closed Session)

Wednesday, May 15, 2002

9-10 a.m.—Technical Programs Committee

10-Noon—Committee of the Whole Briefing on ADA/ABA Final Rule (Closed Session)

1:30 p.m.-2:30—Executive Committee

3-5—Board Meeting

ADDRESSES: The meetings will be held at the Marriott at Metro Center Hotel, 775 12th Street, NW, Washington, DC.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items.

Open Meeting

• Executive Director's report

• Approval of the minutes of the March 13, 2002 board meeting

• Committee Reports

Closed Meeting

• Ad Hoc Committee on Water Passenger Vessels

• ADA and ABA Accessibility Guidelines

All meetings are accessible to persons with disabilities. Sign language interpreters and an assistive listening system are available at all meetings. Persons attending Board meetings are requested to refrain from using perfume, cologne, and other fragrances for the comfort of other participants.

James J. Raggio,
General Counsel.

[FR Doc. 02-10534 Filed 4-29-02; 8:45 am]

BILLING CODE 8150-01-P